SOCIAL SECURITY ADMINISTRATION

Agency Information Collection Activities: Emergency Request and Comment Request

The Social Security Administration (SSA) publishes a list of information collection packages that will require clearance by the Office of Management and Budget (OMB) in compliance with Pub. L. 104-13, the Paperwork Reduction Act of 1995, effective October 1, 1995. The information collection packages that may be included in this notice are for approval of existing information collections and revisions to OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB),

Office of Management and Budget,

Attn: Desk Officer for SSA,

Fax: 202-395-6974.

(SSA),

Social Security Administration, DCFAM,

Attn: Reports Clearance Officer,

1333 Annex Building,

6401 Security Blvd.,

Baltimore, MD 21235,

Fax: 410-965-6400.

The information collection listed directly below has been submitted to OMB for Emergency Clearance. SSA is requesting Emergency Clearance from OMB two weeks from the date of publication of this Notice. Your comments on the information collection are requested by that date. You can obtain a copy of the OMB clearance package by calling the SSA Reports Clearance Officer at 410-965-0454, or by writing to the address listed above.

1. Request for Hearing by Administrative Law Judge—20 CFR 404.929, 404.933, 416.1429, 404.1433, 405.722, 418.1350—0960-0269. SSA uses form HA-501 to document when applicants for Social Security benefits have their claims denied and want to request an administrative hearing to appeal SSA's decision. The scope of this form is now being expanded to include people who wish to appeal the decision that has been made regarding their obligation to pay a new Income-Related Monthly Adjustment Amount (IRMAA) for Medicare Part B, as per the requirements of the Medicare Modernization Act of 2003. Although this information will be collected by SSA, the actual hearings will take place before administrative law judges (ALJ) who are employed by the Department of Health and Human Services (HHS). The current respondents include applicants for various Social Security benefits programs who want to request a hearing where they can appeal their denial; the new additional respondents are Medicare Part B recipients whom SSA has determined will have to pay the new Medicare Part B IRMAA and who wish to appeal this decision at a hearing before an HHS ALJ.

Type of Request: Emergency revision of an OMB-approved information collection.

Number of Respondents: 669,469.

Frequency of Response: 1.

Average Burden per Response: 10 minutes.

Estimated Annual Burden: 111,578 hours.

The information collection listed below has been submitted to OMB for clearance. Your comments on the information collection would be most useful if received by OMB and SSA within 30 days from the date of this publication. You can obtain a copy of the OMB clearance package by calling the SSA Reports Clearance Officer at 410-965-0454, or by writing to the address listed above.

2. State Supplementation Provisions: Agreement; Payments—20 CFR 416.2095-416.2098, 416.2099—0960-0240. Section 1618 of the Social Security Act contains pass-along provisions of the Social Security amendments. These provisions require that States which supplement the Federal Supplemental Security Income (SSI) payments also pass along Federal cost-of-living increases to individuals who are eligible for State supplemental payments. If a State fails to keep payments at the required level, it becomes ineligible for Medicaid reimbursement under Title XIX of the Social Security Act. In order to make sure the States are maintaining the payment levels, they submit their payment amounts to SSA. Seven of the participating States may use a total-expenditures method, in which they send their total expenditures to SSA four times per year to prove that they are maintaining the regulated cost-of-living increase. The remaining twenty three States send SSA one annual report which shows that they have maintained the cost-of-living increase as per the regulations. Respondents are State agencies administering supplemental programs.

Type of Request: Extension of an OMB-approved information collection.

Number of Respondents: 30.

Estimated Annual Burden: 51 hours.

Reporting method | Number of respondents | Frequency of response | Average burden per response | Estimated annual burden (hours)
Total Expenditures | 7 | 4 | 60 | 28
Maintenance of Payment Levels | 23 | 1 | 60 | 23
Total | 30 |  |  | 51

Dated: October 12, 2006.
Elizabeth A. Davidson,
Reports Clearance Officer, Social Security Administration.

[FR Doc. 06-8770 Filed 10-18-06; 8:45 am]

BILLING CODE 4191-02-P